DEPARTMENT OF ENERGY

Federal Energy Regulatory Commission

[Docket No. RP02-363-000]

North Baja Pipeline LLC; Notice of Compliance Tariff Filing

June 12, 2002.

Take notice that on June 6, 2002, North Baja Pipeline LLC (NBP) tendered for filing its actual FERC Gas Tariff, Original Volume No. 1, in compliance with ordering paragraph D of the Commission's May 18, 2001, Preliminary Determination on Non-Environmental Issues (Preliminary Determination) 95 FERC ¶ 61,259. These actual tariff sheets reflects modifications to NBP's originally filed Pro Forma FERC Gas Tariff to bring it into compliance with current NAESB standards, all the requirements in Order Nos. 637, 637-A, and 637-B and subsequent orders, and any other tariff regulations currently in effect. Additional tariff modifications have been made as indicated in NBP's filing. In addition, NBP has requested waiver of the Preliminary Determination requirement that NBP revise its initial rates in order to reflect any change in its cost of long-term debt. NBP requested that the Commission allow it to delay restating its maximum recourse rates until it has secured long-term debt financing, which is expected to occur by the end of February 2003.

NBP anticipates that its 79.8-mile natural gas pipeline will be placed into partial service as early as mid-August 2002 and requests an effective date of August 12, 2002, for these actual tariff sheets.

NBP states that a copy of this filing has been served upon its customers and interested state regulatory commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-15418 Filed 6-18-02; 8:45 am]

BILLING CODE 6717-01-P